DEPARTMENT OF HOMELAND SECURITY

U.S. Customs and Border Protection

[CBP Dec. 22-17]

COBRA Fees To Be Adjusted for Inflation in Fiscal Year 2023

AGENCY: U.S. Customs and Border Protection, Department of Homeland Security.

ACTION: General notice.

SUMMARY: This document announces that U.S. Customs and Border Protection (CBP) is adjusting certain customs user fees and corresponding limitations established by the Consolidated Omnibus Budget Reconciliation Act (COBRA) for Fiscal Year 2023 in accordance with the Fixing America's Surface Transportation Act (FAST Act) as implemented by the CBP regulations.

DATES: The adjusted amounts of customs COBRA user fees and their corresponding limitations set forth in this notice for Fiscal Year 2023 are required as of October 1, 2022.

FOR FURTHER INFORMATION CONTACT: Tina Ghiladi, Senior Advisor, International Travel & Trade, Office of Finance, 202-344-3722, UserFeeNotices@cbp.dhs.gov.

SUPPLEMENTARY INFORMATION:

I. Background

A. Adjustments of COBRA User Fees and Corresponding Limitations for Inflation

On December 4, 2015, the Fixing America's Surface Transportation Act (FAST Act, Pub. L. 114-94) was signed into law. Section 32201 of the FAST Act amended section 13031 of the Consolidated Omnibus Budget Reconciliation Act (COBRA) of 1985 (19 U.S.C. 58c) by requiring the Secretary of the Treasury (Secretary) to adjust certain customs COBRA user fees and corresponding limitations to reflect certain increases in inflation.

Sections 24.22 and 24.23 of title 19 of the Code of Federal Regulations (19 CFR 24.22 and 24.23) describe the procedures that implement the requirements of the FAST Act. Specifically, paragraph (k) in section 24.22 (19 CFR 24.22(k)) sets forth the methodology to determine the change in inflation as well as the factor by which the fees and limitations will be adjusted, if necessary. The fees and limitations subject to adjustment, which are set forth in Appendix A and Appendix B of part 24, include the commercial vessel arrival fees, commercial truck arrival fees, railroad car arrival fees, private vessel arrival fees, private aircraft arrival fees, commercial aircraft and vessel passenger arrival fees, dutiable mail fees, customs broker permit user fees, barges and other bulk carriers arrival fees, and merchandise processing fees, as well as the corresponding limitations.

B. Determination of Whether an Adjustment Is Necessary for Fiscal Year 2023

In accordance with 19 CFR 24.22, CBP must determine annually whether the fees and limitations must be adjusted to reflect inflation. For Fiscal Year 2023, CBP is making this determination by comparing the average of the Consumer Price Index—All Urban Consumers, U.S. All items, 1982-1984 (CPI-U) for the current year (June 2021-May 2022) with the average of the CPI-U for the comparison year (June 2020-May 2021) to determine the change in inflation, if any. If there is an increase in the CPI-U of greater than one (1) percent, CBP must adjust the customs COBRA user fees and corresponding limitations using the methodology set forth in 19 CFR 24.22(k). Following the steps provided in paragraph (k)(2) of section 24.22, CBP has determined that the increase in the CPI-U between the most recent June to May twelve-month period (June 2021-May 2022) and the comparison year (June 2020-May 2021) is 6.87 ¹ percent. As the increase in the CPI-U is greater than one (1) percent, the customs COBRA user fees and corresponding limitations must be adjusted for Fiscal Year 2023.

¹ The figures provided in this notice may be rounded for publication purposes only. The calculations for the adjusted fees and limitations were made using unrounded figures, unless otherwise noted.

C. Determination of the Adjusted Fees and Limitations

Using the methodology set forth in section 24.22(k)(2) of the CBP regulations (19 CFR 24.22(k)), CBP has determined that the factor by which the base fees and limitations will be adjusted is 18.629 percent (base fees and limitations can be found in Appendices A and B to part 24 of title 19). In reaching this determination, CBP calculated the values for each variable found in paragraph (k) of 19 CFR 24.22 as follows:

• The arithmetic average of the CPI-U for June 2021-May 2022, referred to as (A) in the CBP regulations, is 279.974;

• The arithmetic average of the CPI-U for Fiscal Year 2014, referred to as (B), is 236.009;

• The arithmetic average of the CPI-U for the comparison year (June 2020-May 2021), referred to as (C), is 261.992;

• The difference between the arithmetic averages of the CPI-U of the comparison year (June 2020-May 2021) and the current year (June 2021-May 2022), referred to as (D), is 17.982;

• This difference rounded to the nearest whole number, referred to as (E), is 18;

• The percentage change in the arithmetic averages of the CPI-U of the comparison year (June 2020-May 2021) and the current year (June 2021-May 2022), referred to as (F), is 6.87 percent;

• The difference in the arithmetic average of the CPI-U between the current year (June 2021-May 2022) and the base year (Fiscal Year 2014), referred to as (G), is 43.966; and

• Lastly, the percentage change in the CPI-U from the base year (Fiscal Year 2014) to the current year (June 2021-May 2022), referred to as (H), is 18.629 percent.

D. Announcement of New Fees and Limitations

The adjusted amounts of customs COBRA user fees and their corresponding limitations for Fiscal Year 2023 as adjusted by 18.629 percent set forth below are required as of October 1, 2022. Table 1 provides the fees and limitations found in 19 CFR 24.22 as adjusted for Fiscal Year 2023, and Table 2 provides the fees and limitations found in 19 CFR 24.23 as adjusted for Fiscal Year 2023.

² The Commercial Truck Arrival Fee is the CBP fee only; it does not include the United States Department of Agriculture (USDA) Animal and Plant Health Inspection Service (APHIS) Agricultural and Quarantine Inspection (AQI) Services Fee (currently $7.55) that is collected by CBP on behalf of USDA to make a total Single Crossing Fee of $14.05. See 7 CFR 354.3(c) and 19 CFR 24.22(c)(1). Once eighteen Single Crossing Fees have been paid and used for a vehicle identification number (VIN)/vehicle in a Decal and Transponder Online Procurement System (DTOPS) account within a calendar year, the payment required for the nineteenth (and subsequent) single-crossing is only the AQI fee (currently $7.55) and no longer includes CBP's $6.50 Commercial Truck Arrival fee (for the remainder of that calendar year).

³ The Commercial Truck Arrival fee is adjusted down from $6.52 to the nearest lower nickel. See 82 FR 50523 (November 1, 2017).

⁴ The Commercial Truck Calendar Year Prepayment Fee is the CBP fee only; it does not include the AQI Commercial Truck with Transponder Fee (currently $301.67) that is collected by CBP on behalf of APHIS to make the total Commercial Vehicle Transponder Annual User Fee of $420.30.

Table 1—Customs COBRA User Fees and Limitations Found in 19 CFR 24.22 as Adjusted for Fiscal Year 2023
19 U.S.C. 58c | 19 CFR 24.22 | Customs COBRA user fee/limitation | New fee/ limitation adjusted in accordance with the FAST Act
(a)(1) | (b)(1)(i) | Fee: Commercial Vessel Arrival Fee | $518.41
(b)(5)(A) | (b)(1)(ii) | Limitation: Calendar Year Maximum for Commercial Vessel Arrival Fees | 7,064.34
(a)(8) | (b)(2)(i) | Fee: Barges and Other Bulk Carriers Arrival Fee | 130.49
(b)(6) | (b)(2)(ii) | Limitation: Calendar Year Maximum for Barges and Other Bulk Carriers Arrival Fees | 1,779.43
(a)(2) | (c)(1) | Fee: Commercial Truck Arrival Fee 2 3 | 6.50
(b)(2) | (c)(2) and (3) | Limitation: Commercial Truck Calendar Year Prepayment Fee ⁴ | 118.63
(a)(3) | (d)(1) | Fee: Railroad Car Arrival Fee | 9.79
(b)(3) | (d)(2) and (3) | Limitation: Railroad Car Calendar Year Prepayment Fee | 118.63
(a)(4) | (e)(1) and (2) | Fee and Limitation: Private Vessel or Private Aircraft First Arrival/Calendar Year Prepayment Fee | 32.62
(a)(6) | (f) | Fee: Dutiable Mail Fee | 6.52
(a)(5)(A) | (g)(1)(i) | Fee: Commercial Vessel or Commercial Aircraft Passenger Arrival Fee | 6.52
(a)(5)(B) | (g)(1)(ii) | Fee: Commercial Vessel Passenger Arrival Fee (from one of the territories and possessions of the United States) | 2.29
(a)(7) | (h) | Fee: Customs Broker Permit User Fee | 163.71

Table 2—Customs COBRA User Fees and Limitations Found in 19 CFR 24.23 as Adjusted for Fiscal Year 2023
19 U.S.C. 58c | 19 CFR 24.23 | Customs COBRA user fee/limitation | New fee/ limitation adjusted in accordance with the FAST Act
(b)(9)(A)(ii) | (b)(1)(i)(A) | Fee: Express Consignment Carrier/Centralized Hub Facility Fee, Per Individual Waybill/Bill of Lading Fee | $1.19
(b)(9)(B)(i) | (b)(4)(ii) ⁵ | Limitation: Minimum Express Consignment Carrier/Centralized Hub Facility Fee ⁶ | 0.42
(b)(9)(B)(i) | (b)(4)(ii) ⁷ | Limitation: Maximum Express Consignment Carrier/Centralized Hub Facility Fee | 1.19
(a)(9)(B)(i); (b)(8)(A)(i) | (b)(1)(i)(B) ⁸ | Limitation: Minimum Merchandise Processing Fee ⁹ | 29.66
(a)(9)(B)(i); (b)(8)(A)(i) | (b)(1)(i)(B) ¹⁰ | Limitation: Maximum Merchandise Processing Fee ¹¹ ¹² | 575.35
(b)(8)(A)(ii) | (b)(1)(ii) | Fee: Surcharge for Manual Entry or Release | 3.56
(a)(10)(C)(i) | (b)(2)(i) | Fee: Informal Entry or Release; Automated and Not Prepared by CBP Personnel | 2.37
(a)(10)(C)(ii) | (b)(2)(ii) | Fee: Informal Entry or Release; Manual and Not Prepared by CBP Personnel | 7.12
(a)(10)(C)(iii) | (b)(2)(iii) | Fee: Informal Entry or Release; Manual; Prepared by CBP Personnel | 10.68
(b)(9)(A)(ii) | (b)(4) | Fee: Express Consignment Carrier/Centralized Hub Facility Fee, Per Individual Waybill/Bill of Lading Fee | 1.19

Tables 1 and 2, setting forth the adjusted fees and limitations for Fiscal Year 2023, will also be maintained for the public's convenience on the CBP website at www.cbp.gov.

⁵ Appendix B of part 24 inadvertently included a reference to paragraph (b)(1)(i)(B)(2) of section 24.23. However, the reference should have been to paragraph (b)(4)(ii). CBP intends to publish a future document in the Federal Register to make several technical corrections to part 24 of title 19 of the CFR, including corrections to Appendix B of part 24. The technical corrections will also address the inadvertent errors specified in footnotes 7, 8, and 10 below.

⁶ Although the minimum limitation is published, the fee charged is the fee required by 19 U.S.C. 58c(b)(9)(A)(ii).

⁷ Appendix B of part 24 inadvertently included a reference to paragraph (b)(1)(i)(B)(2) of section 24.23. However, the reference should have been to paragraph (b)(4)(ii).

⁸ Appendix B of part 24 inadvertently included a reference to paragraph (b)(1)(i)(B)(1) of section 24.23. However, the reference should have been to paragraph (b)(1)(i)(B).

⁹ Only the limitation is increasing; the ad valorem rate of 0.3464 percent remains the same. See 82 FR 50523 (November 1, 2017).

¹⁰ Appendix B of part 24 inadvertently included a reference to paragraph (b)(1)(i)(B)(1) of section 24.23. However, the reference should have been to paragraph (b)(1)(i)(B).

¹¹ Only the limitation is increasing; the ad valorem rate of 0.3464 percent remains the same. See 82 FR 50523 (November 1, 2017).

¹² For monthly pipeline entries, see https://www.cbp.gov/trade/entry-summary/pipeline-monthly-entry-processing/pipeline-line-qa.

Chris Magnus, the Commissioner of CBP, having reviewed and approved this document, is delegating the authority to electronically sign this document to Robert F. Altneu, who is the Director of the Regulations and Disclosure Law Division for CBP, for purposes of publication in the Federal Register.

Robert F. Altneu,
Director, Regulations & Disclosure Law Division, Regulations & Rulings, Office of Trade, U.S. Customs and Border Protection.

[FR Doc. 2022-16533 Filed 7-28-22; 4:15 pm]

BILLING CODE 9111-14-P